FEDERAL COMMUNICATIONS COMMISSION

Notice of Public Information Collection(s) Being Reviewed by the Federal Communications Commission

July 21, 2000.

SUMMARY: The Federal Communications Commissions, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 28, 2000. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at (202) 418-0214 or via the Internet at jboley@fcc.gov.

SUPPLEMENTARY INFORMATION: OMB Control Number: 3060-0798.

Title: FCC Application for Wireless Telecommunications Bureau Radio Service Authorization.

Form No: FCC Form 601.

Type of Review: Revision of a currently approved collection.

Respondents: Individuals or households, businesses or other for-profit, not-for-profit institutions, and state, local or tribal governments.

Number of Respondents: 240,320.

Estimate Time Per Response: 1.25 hours.

Frequency of Response: On occasion reporting requirement, third party disclosure requirement.

Total Annual Burden: 210,280 hours.

Total Annual Cost: $48,364,000.

Needs and Uses: The FCC Form 601 is used as a general application (long form) for market based licensing and site-by-site licensing in the Wireless Telecommunications Radio Service. The purpose of this revision is to make the necessary changes to collect licensing information for the 700 MHz auction winners, to make the necessary adjustments to the form and instructions for implementation of Land Mobile Radio Services to ULS, and to further clarify various instructions for the applicants. As use of the FCC Form 601 progresses after implementation of each service, we are discovering ways to ease the burden of filing on our respondents by making further changes to the form (i.e., “fine tuning”). These changes do not affect the total estimated number of respondents or the total estimated average annual burden. The information will be used by the Commission to determine whether the applicant is legally, technically and financially qualified to be licensed. Without such information, the Commission could not determine whether to issue the licenses to the applicants that provides telecommunications services to the public and therefore fulfill its statutory responsibilities in accordance with the Communications Act of 1934, as amended. It will also be used to update the database and provide for proper use of the frequency spectrum.

Federal Communications Commission.
Magalie Roman Salas,
Secretary.

[FR Doc. 00-19044 Filed 7-27-00; 8:45 am]

BILLING CODE 6712-01-P